DEPARTMENT OF STATE

[Public Notice #4037]

Notice of Meeting; United States International Telecommunication Advisory Committee Preparations for CITEL Assembly

The Department of State announces a meeting of the U.S. International Telecommunication Advisory Committee (ITAC). The purpose of the Committee is to advise the Department on policy, technical and operational issues with respect to international telecommunications standardization bodies such as the Inter-American Telecommunications Commission of the Organization of American States. The ITAC will meet from 9:30 to noon on July 1, 2002 at the Department of State in room 1207. This meeting will address preparations for the CITEL Assembly.

Admittance of public members will be limited to the seating available. In this regard, entrance to the Department of State is controlled. People intending to attend the meeting should send a fax to (202) 647-7407 or e-mail to worsleydm@state.gov not later than 24 hours before the meeting. Please include the name of the meeting, your name, social security number, date of birth and organization. One of the following valid photo identifications will be required for admittance: U.S. driver's license with your picture on it, U.S. passport, or U.S. Government identification. Directions to the meeting location and on which entrance to use may be determined by calling the ITAC Secretariat at (202) 647-2592 or e-mail to worsleydm@state.gov. Attendees may join in the discussions, subject to the instructions of the Chair. Admission of participants will be limited to seating available.

Dated: June 12, 2002.
Frank Williams,
Director, WRC Preparations, Department of State.

[FR Doc. 02-15975 Filed 6-24-02; 8:45 am]

BILLING CODE 4710-45-P